INTERNATIONAL TRADE COMMISSION

[Investigation Nos. 701-TA-733-736 and 731-TA-1702-1711 (Final)]

Corrosion-Resistant Steel Products From Australia, Brazil, Canada, Mexico, Netherlands, South Africa, Taiwan, Turkey, United Arab Emirates, and Vietnam; Determinations

On the basis of the record ¹ developed in the subject investigations, the United States International Trade Commission (“Commission”) determines, pursuant to the Tariff Act of 1930 (“the Act”), that an industry in the United States is materially injured by reason of imports of corrosion-resistant steel products from Australia, Brazil, Canada, Mexico, Netherlands, South Africa, Taiwan, Turkey, United Arab Emirates, and Vietnam, provided for in subheadings 7210.30.00, 7210.41.00, 7210.49.00, 7210.61.00, 7210.69.00, 7210.70.60, 7210.90.10, 7210.90.60, 7210.90.90, 7212.20.00, 7212.30.10, 7212.30.30, 7212.30.50, 7212.40.10, 7212.40.50, 7212.50.00, 7212.60.00, 7215.90.10, 7215.90.30, 7215.90.50, 7217.20.15, 7217.30.15, 7217.90.10, 7217.90.50, 7225.91.00, 7225.92.00, 7225.99.00, 7226.99.01, 7228.60.60, 7228.60.80, and 7229.90.10 of the Harmonized Tariff Schedule of the United States, that have been found by the U.S. Department of Commerce (“Commerce”) to be sold in the United States at less than fair value (“LTFV”) and found to be subsidized by the governments of Brazil, Canada, Mexico, and Vietnam.2 3

¹ The record is defined in § 207.2(f) of the Commission's Rules of Practice and Procedure (19 CFR 207.2(f)).

² 90 FR 42187, 42189, 42194, 42198, 42200, 42204, 42207, 42210, 42213, 42216, 42219, 42223, 42226, and 42229 (August 29, 2025).

³ The Commission also finds that imports subject to Commerce's affirmative critical circumstances determination on South Africa are not likely to undermine seriously the remedial effect of the antidumping duty order on corrosion-resistant steel products from South Africa.

Background

The Commission instituted these investigations effective September 5, 2024, following receipt of petitions filed with the Commission and Commerce by Steel Dynamics, Inc., Fort Wayne, Indiana; Nucor Corporation, Charlotte, North Carolina; United States Steel Corporation, Pittsburgh, Pennsylvania; Wheeling-Nippon Steel, Inc., Follansbee, West Virginia; and the United Steel, Paper and Forestry, Rubber, Manufacturing, Energy, Allied Industrial and Service Workers International Union, AFL-CIO, CLC, Washington, DC. The final phase of the investigations was scheduled by the Commission following notification of preliminary determinations by Commerce that imports of corrosion-resistant steel products from Brazil, Canada, Mexico, and Vietnam were subsidized within the meaning of section 703(b) of the Act (19 U.S.C. 1671b(b)) and that imports of corrosion-resistant steel products from Australia, Brazil, Canada, Mexico, Netherlands, South Africa, Taiwan, Turkey, United Arab Emirates, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 8, 2025 (90 FR 19529).⁴ The Commission conducted its hearing on August 12, 2025. All persons who requested the opportunity were permitted to participate.

⁴ Due to the lapse in appropriations and ensuing cessation of government operations, all import injury investigations conducted under authority of Title VII of the Tariff Act of 1930 have been tolled pursuant to 19 U.S.C. 1671d(b)(2) and 1673d(b)(2).

The Commission made these determinations pursuant to §§ 705(b) and 735(b) of the Act (19 U.S.C. 1671d(b) and 19 U.S.C. 1673d(b)). It completed and filed its determinations in these investigations on November 28, 2025. The views of the Commission are contained in USITC Publication 5678 (November 2025), entitled Corrosion-Resistant Steel Products from Australia, Brazil, Canada, Mexico, Netherlands, South Africa, Taiwan, Turkey, United Arab Emirates, and Vietnam: Investigation Nos. 701-TA-733-736 and 731-TA-1702-1711 (Final).

By order of the Commission.
Issued: November 28, 2025.
Sharon Bellamy,
Supervisory Hearings and Information Officer.

[FR Doc. 2025-21761 Filed 12-1-25; 8:45 am]

BILLING CODE 7020-02-P